NUCLEAR REGULATORY COMMISSION

[NRC-2018-0134]

Fuel Cycle Safety, Safeguards, and Environmental Review Interim Staff Guidance

AGENCY: Nuclear Regulatory Commission.

ACTION: Interim staff guidance; withdrawal.

SUMMARY: The U.S. Nuclear Regulatory Commission (NRC) is announcing the withdrawal of several Interim Staff Guidance (ISG) documents associated with fuel cycle facilities. These documents are being withdrawn because the guidance contained in the documents have since been incorporated into NUREG-1520, “Standard Review Plan for Fuel Cycle Facilities License Applications.”

DATES: The withdrawal of the Fuel Cycle Safety, Safeguards, and Environmental Review ISG documents were issued on December 4, 2018.

ADDRESSES: Please refer to Docket ID NRC-2018-0134 when contacting the NRC about the availability of information regarding this document. You may obtain publicly-available information related to this document using any of the following methods:

• Federal Rulemaking Website: Go to http://www.regulations.gov and search for Docket ID NRC-2018-0134. Address questions about NRC dockets in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Jennifer Fisher, Office of Nuclear Material Safety and Safeguards, U.S. Nuclear Regulatory Commission, Washington, DC 20555-0001; telephone: 301-415-1456, email: Jennifer.Fisher@nrc.gov.

SUPPLEMENTARY INFORMATION:

I. Background

The NRC is withdrawing select Fuel Cycle Safety, Safeguards, and Environmental Review ISG documents because the content was incorporated in NUREG-1520, “Standard Review Plan for Fuel Cycle Facilities License Applications” (ADAMS Accession No. ML15176A258). The content in NUREG-1520 supersedes the original ISG and therefore these documents are being withdrawn. In some instances, the ISG was incorporated in its entirety and at other times only sections that were still relevant at the date of publish were included. The following ISG documents are being withdrawn:

FCSS-ISG-01, “Qualitative Criteria for Evaluation of Likelihood” (ADAMS Accession No. ML051520236), was incorporated in NUREG-1520, Chapter 3, Appendix B, “Qualitative Criteria for Evaluation of Likelihood.”

FCSS-ISG-03, “Nuclear Criticality Safety Performance Requirements and Double Contingency Principle” (ADAMS Accession No. ML050690302), was incorporated in NUREG-1520, Chapter 5, Appendix A, “Nuclear Criticality Performance Requirements and Double-Contingency Principle.”

FCSS-ISG-05, “Additional Reporting Requirements of 10 CFR 70.74” (ADAMS Accession No. ML053630228), is superseded by NUREG-1520, Chapter 5, Section 5.4.1, “Nuclear Criticality Safety; Acceptance Criteria; Regulatory Requirements.”

FCSS-ISG-08, “Natural Phenomena Hazards” (ADAMS Accession No. ML052650305), was incorporated into NUREG-1520, Chapter 3, Appendix D, “Natural Phenomena Hazards.”

FCSS-ISG-09, “Initiating Event Frequencies” (ADAMS Accession No. ML051520323), was incorporated into NUREG-1520, Chapter 3, Appendix C, “Initiating Event Frequency.”

FCSS-ISG-10, “Justification for Minimum Margin of Subcriticality for Safety” (ADAMS Accession No. ML061650370), was incorporated into NUREG-1520, Chapter 5, Appendix B, “Justification for Minimum Margin of Subcriticality for Safety.”

II. Availability of Documents

Document title | ADAMS accession No.
NUREG-1520, Standard Review Plan for Fuel Cycle Facilities License Applications | ML15176A258
FCSS-ISG-01, Qualitative Criteria for Evaluation of Likelihood | ML051520236
FCSS-ISG-03, Nuclear Criticality Safety Performance Requirements and Double Contingency Principle | ML050690302
FCSS-ISG-05, Additional Reporting Requirements of 10 CFR 70.74 | ML053630228
FCSS-ISG-08, Natural Phenomena Hazards | ML052650305
FCSS-ISG-09, Initiating Event Frequencies | ML051520323
FCSS-ISG-10, Justification for Minimum Margin of Subcriticality for Safety | ML061650370

Dated at Rockville, Maryland, this 28th day of November 2018.
For the Nuclear Regulatory Commission.
David Tiktinsky,
Acting Chief, Facility Licensing and Oversight Branch, Division of Fuel Cycle Safety, Safeguards, and Environmental Review, Office of Nuclear Material Safety and Safeguards.

[FR Doc. 2018-26225 Filed 12-3-18; 8:45 am]

BILLING CODE 7590-01-P